ENVIRONMENTAL PROTECTION AGENCY

[ER-FRL-6682-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in the Federal Register dated April 7, 2006 (71 FR 17845).

Draft EISs

EIS No. 20060075, ERP No. D-AFS-J65458-00, Wasatch-Cache National Forest Noxious Weed Treatment Program, Proposes to Treat Noxious Weeds 1.2 Million Acres of Wilderness and Non-Wilderness Areas, several counties, UT and Uinta County, WY.

Summary: EPA continues to have environmental concerns about potential impacts to source and ground water. The Final EIS should include a monitoring and adaptive management program to assure that program objectives are met.

Rating EC2.

EIS No. 20060213, ERP No. D-CGD-B03013-MA, Northeast Gateway Deepwater Port License Application to Import Liquefied Natural Gas (LNG) (USCG-2005-22219), Massachusetts Bay, City of Gloucester, MA.

Summary: EPA offered comments and suggestions about the analysis and discussion of impacts to air and water quality and to marine organisms as well as measures to avoid, minimize and mitigate for unavoidable impacts from the project.

Rating EC2.

EIS No. 20060325, ERP No. D-FRC-L05237-00, Hells Canyon Hydroelectric Project, Application for Relicensing to Authorize the Continued Operation of Hydroelectric Project, Snake River, Washington and Adams Counties, ID and Wallowa and Baker Counties, OR.

Summary: EPA expressed environmental objections based on impacts to water temperature. EPA requested additional analysis of the potential for temperature control structures to minimize water quality impacts.

Rating EO2.

EIS No. 20060395, ERP No. D-FRC-L05238-00, Klamath Hydroelectric Project, Continued Operation for Hydropower License FERC No. 2082-27, Klamath River, Klamath County, OR and Siskiyou County, CA.

Summary: EPA has environmental objections to the proposed relicensing in light of the potential for the project to continue to cause or contribute to water quality criteria exceedence and related adverse impacts on designated uses. EPA recommended that the final EIS analyze, as appropriate, mitigation measures that would help meet applicable water quality standards. EPA also recommended that the final EIS evaluate an alternative that demonstrates that the project's contribution to water quality standard exceedences would be addressed throughout the Project area or discuss why such an alternative was not considered reasonable.

Rating EO2.

EIS No. 20060443, ERP No. D-AFS-L65525-AK, Baht Timber Sale Project, Proposes to Harvest Timber and Temporary Road Construction on Zarembo Island, Wrangell Ranger District, Tongrass National Forest, AK.

Summary: EPA express environmental concerns about the potential for adverse impacts to water quality, aquatic resources, air quality, soils, and biological diversity from the proposed actions, especially related to roads. The Final EIS should include additional mitigation for impacts and more detail on the monitoring plan.

Rating EC2.

EIS No. 20060445, ERP No. D-NPS-J65474-MT, Avalanche Hazard Reduction Project, Issuance of Special Use Permit for the Use of Explosives in the Park, Burlington Northern Santa Fe Railway, Glacier National Park, Flathead National Forest, Flathead and Glacier Counties, MT.

Summary: EPA supports new and expanded snowshed construction without the use of explosives, given the avalance hazard and impacts to wildlife.

However, we expressed environmental concerns about barriers to wildlife travel, and recommended incorporating measures for wildlife passage into snowshed design and construction.

Rating EC2.

EIS No. 20060101, ERP No. DR-UAF-E11056-FL, Eglin Air Force Base and Hurlburt Field, New Revision to Preferred Alternatives, Military Family Housing Demolition, Construction, Renovation, and Leasing (DCR & L) Program, Okaloosa County, FL.

Summary: EPA requested that additional data and analysis be included in the final EIS.

Rating EC2.

EIS No. 20060361, ERP No. DS-NRS-D36121-WV, Lost River Subwatershed of the Potomac River Watershed Project, Construction of Site 16 on Lower Cove Run and Deletion of Site 23 on Upper Cove Run, US Army COE Section 404 Permit, Hardy County, WV.

Summary: EPA has environmental objections with the project due to potential adverse impacts to aquatic resources. EPA requested additional information regarding the need for the project, as well as analysis of alternatives, secondary and cumulative effects, and potential mitigation measures.

Rating EO2.

Final EISs

EIS No. 20060062, ERP No. F-AFS-J61104-CO, Copper Mountain Resort Trails and Facilities Improvements, Implementation, Special Use Permit, White River National Forest, Dillon Ranger District, Summit County, CO.

Summary: The final EIS addressed EPA's concerns with impacts to water quality from snowmaking, mitigation for wetlands impacts and impacts to wildlife. EPA recommended additional monitoring to assure that extensive wetland mitigation measures are successful and continue to function as designed.

EIS No. 20060123, ERP No. F-AFS-J65429-CO, Village at Wolf Creek Project, Application for Transportation and Utility Systems and Facilities, Proposed Development and Use of Road and Utility Corridors Crossing, National Forest System Lands to Access 287.5 Acres of Private Property Land, Mineral County, CO.

Summary: EPA continues to have environmental concerns about potential impacts to water quality, site hydrology and wetlands from the proposed action, especially from roads and new access.

EIS No. 20060172, ERP No. F-AFS-J65421-00, Grizzly Bear Conservation for the Greater Yellowstone Area National Forests, Implementation, Amend Six Forest Plans: Beaverhead-Deerlodge National Forest, Bridger-Teton National Forest, Caribou-Targhee National Forest, Custer National Forest, Gallatin National Forest and Shoshone National Forest, MT, WY, and ID.

Summary: The Final EIS addressed EPA's concerns in terms of limiting the number of roads, trails and campsites. However, the ROD should consider including a commitment to increase mitigation to the level of use over time as well as include a more comprehensive monitoring plan. Added protections to grizzly bear habitat will also protect water quality and other forest resources.

EIS No. 20060193, ERP No. F-AFS-J65435-UT, Ogden Ranger District Travel Plan, To Update the Travel Management Plan, Wasatch-Cache National Plan, Ogden Ranger District, Box Elder, Cache, Morgan, Weber and Rich Counties, UT.

Summary: EPA continues to express environmental concerns with the potential for adverse impacts to aquatic and terrestrial resources from the existing and proposed travel systems and particularly from unauthorized motorized trails.

EIS No. 20060409, ERP No. F-AFS-J65452-UT, Lake Project, Proposal to Maintain Vegetative Diversity and Recover Economic Value of Dead, Dying and High Risk to Mortality Trees, Manti-La Sal National Forest, Ferron/Price Ranger District, Emery and Sanpete Counties, UT.

Summary: No formal comment letter was sent to the preparing agency.

EIS No. 20060425, ERP No. F-AFS-K65298-CA, Kings River Project, Proposal to Restore Historical Pre-1850 Forest Conditions, Implementation, High Sierra Ranger District, Sierra National Forest, Fresno County, CA.

Summary: No formal comment letter was sent to the preparing agency.

Dated: December 26, 2006.
Ken Mittelholtz,
Environmental Protection Specialist, Office of Federal Activities.

[FR Doc. E6-22412 Filed 12-28-06; 8:45 am]

BILLING CODE 6560-50-P